DEPARTMENT OF HEALTH AND HUMAN SERVICES

Solicitation of Nominations for Membership on the Secretary's Advisory Committee on Human Research Protections; Correction

AGENCY: Office of the Assistant Secretary for Health, Office for Infectious Disease and HIV/AIDS Policy, Office of the Secretary, Department of Health and Human Services (HHS).

ACTION: Notice; correction.

SUMMARY: HHS published a document in the Federal Register of March 12, 2024, announcing the Presidential Advisory Council on HIV/AIDS (PACHA) 80th full council meeting. Due to unforeseen circumstances, there has been an update in meeting location.

FOR FURTHER INFORMATION CONTACT: Caroline Talev, caroline.talev@hhs.gov, (202) 795-7622.

SUPPLEMENTARY INFORMATION:

Correction

In the Federal Register of March 12, 2024, in FR Doc. 2024-05183, on page 17859, third column, correct the addresses caption to read:

ADDRESSES: The public meeting will now be held at the UT School of Public Health, 1200 Pressler Street in Houston, Texas 77030. To attend the meeting virtually, please visit www.hhs.gov/live.

Dated: March 20, 2024.
Caroline Talev,
Senior Management Analyst, Office of Infectious Disease and HIV/AIDS Policy, Alternate Designated Federal Officer, Presidential Advisory Council on HIV/AIDS, Office of the Assistant Secretary for Health, Department of Health and Human Services.

[FR Doc. 2024-06362 Filed 3-21-24; 4:15 pm]

BILLING CODE P